DEPARTMENT OF JUSTICE

Notice of Lodging of Consent Decree Between the United States of America and Sigma-Aldrich Co. Under the Clean Air Act

Under 28 CFR 50.7, notice is hereby given that on September 1, 2004, a proposed Consent Decree (“Consent Decree”) in the case of United States of America v. Sigma-Aldrich Co., Civil Action No. 04-CV-01186-RWS was lodged with the United States District Court for the Eastern District of Missouri, Eastern Division.

The Consent Decree settles the United States' claims for civil penalties for Defendant's violations of the industrial refrigerant, repair, testing, record-keeping, and reporting regulations at 40 CFR part 82, subpart F, §§ 82.156-82.166 (“Recycling and Emissions Reduction”), promulgated pursuant to Subchapter VI of the Clean Air Act (“Stratospheric Ozone Protection”), 42 U.S.C. § § 7671-7671q. Under the Consent Decree, Sigma must pay the United States a civil penalty of $180,000 within twenty-one days of the entry of the Decree. Sigma also must retrofit or retire six particular appliances, four within two months of entry, a fifth appliance within six months, and the final one within twelve months. Finally, Sigma must implement a Refrigerant Management Plan.

The Department of Justice will receive comments relating to the Consent Decree for a period of thirty days from the date of this publication. Comments should be addressed to the Assistant Attorney General, Environment and Natural Resources Division, PO Box 7611, U.S. Department of Justice, Washington, DC 20044-7611, and should refer to United States v. Sigma-Aldrich Co., D.J. Reference No. 90-5-2-1-06469.

The Consent Decree may be examined at the office of the United States Attorney, 111 South 10th Street, Room 20.333, St. Louis, MO 63102 and at U.S. EPA region 7, 901 N. 5th Street, Kansas City, KS 66101. During the comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the consent Decree Library, please enclose a check in the amount of $7.00 (25 cents per page reproduction cost) payable to the United States Treasury for payment.

Robert Maher,
Assistant Section Chief, Environmental Enforcement Section, Environment and Natural Resources Division.

[FR Doc. 04-21311 Filed 9-22-04; 8:45 am]

BILLING CODE 4410-15-M